DEPARTMENT OF AGRICULTURE

Forest Service

Intermountain Region, Boise National Forest, Emmett Ranger District; Idaho Scriver Creek Integrated Restoration Project

AGENCY: Forest Service, USDA.

ACTION: Notice of intent to prepare an environmental impact statement.

SUMMARY: The Emmett Ranger District of the Boise National Forest will prepare an environmental impact statement (EIS) for the integrated restoration project in the Scriver Creek subwatershed. The 11,500-acre project is located approximately 6 miles north of Crouch, Idaho. The Scriver Creek Integrated Restoration Project proposes to undertake vegetation condition restoration, improve watershed conditions, and utilize wood products resulting from restoration activities to support local and regional communities through a variety of activities including commercial and noncommercial vegetation management and road system modifications and maintenance.

DATES: Comments concerning the scope of the analysis must be received by June 7, 2010. The draft environmental impact statement is expected February 2011 and the final environmental impact statement is expected June 2011.

ADDRESSES: Send written comments to 1805 Highway 16, Room 5, Emmett, ID 83617. Comments may also be sent via e-mail to comments-intermtn-boise-emmett@fs.fed.us, or via facsimile to 208-365-7307.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Ann Roseberry, Project Team Leader, 208-365-7000. Individuals who use telecommunication devices for the deaf (TDD) may call the Federal Information Relay Service (FIRS) at 1-800-877-8339 between 8 a.m. and 8 p.m., Eastern Time, Monday through Friday.

SUPPLEMENTARY INFORMATION:

Purpose and Need for Action

Three purposes have been identified for the project: (1) Move toward restoration of Forest Plan desired vegetation conditions by manipulating the forest structure, density, and species composition in order to accelerate development of larger tree size class stands and old forest habitat; (2) improve watershed conditions and reduce road-related impacts to wildlife, fish, soil, and water resources; and (3) utilize wood products resulting from restoration treatments to support local and regional economies.

Proposed Action

The Proposed Action would undertake commercial timber harvest on about 3,265 acres utilizing tractor/off-road jammer (1,124 acres), skyline (926 acres), and helicopter (1,215 acres) logging systems. In addition, all acres treated by commercial timber activities (about 3,265 acres) would be followed by thinning of submerchantable trees. About 839 acres of existing plantations would be thinned from below of small diameter (typically less than 8 inches diameter at breast height (d.b.h.). Of these acres, approximately 163 acres of these thinning activities would occur within riparian conservation areas (RCAs). About 18 helicopter landing would be used or developed to facility commercial timber harvest activities. Approximately 21.5 million board feet (MMBF) would be provided as sawlogs to local and/or regional processing facilities.

The Proposed Action would construct about 2.4 miles of new specified National Forest System (NFS) roads and 1.0 mile of temporary road. About 4.3 miles of road realignment on NFS road 696 would occur to provide long-term accress and eliminate segements of the road within RCA corridors. Approximately 18.5 miles of NFS roads would be decommissioned. Roadway improvements, such as spot surface aggregate placement and drainage improvements, would be undertaken on NFS roads (in particular RCA roads) where needed. Aquatic organism passage (AOP), i.e., fish passage, would be restored by replacing the existing culverts on NFS roads 693, 693A and 695 with AOP passable structures. Application of up to 300 feet of surface gravel applied to both sides of road/stream crossings when located on perennial streams, for all NFS roads to be used for timber harvest activities (except for NFS roads proposed to be decommissioned).

Possible Alternatives

The only other alternative identified at this time is the “No Action” alternative.

Responsible Official

Boise National Forest Supervisor, Cecilia R. Seesholtz.

Nature of Decision To Be Made

The Boise National Forest Supervisor will decide the following: (1) Should vegetation restoration activities be carried out within the project area at this time, and if so, which stands should be treated and what silvicultural systems be applied?; (2) what, if any, changes to the NFS road system should be made?; and (3) what design features, mitigation measures, and/or monitoring should be applied to the project? This decision will be made within the scope of the 2003 Boise National Forest Land and Resource Management Plan (Forest Plan), as anticipated to be amended later in 2010.

Addresses

Project information is available on the Boise National Forest Web site, http://fs.usda.gov/boise (click on Scriver Integrated Restoration Project).

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Dated: April 30, 2010.
Cecilia R. Seesholtz,
Forest Supervisor, Boise National Forest.

[FR Doc. 2010-10662 Filed 5-6-10; 8:45 am]

BILLING CODE 3410-11-M